FEDERAL RETIREMENT THRIFT INVESTMENT BOARD

Sunshine Act Meeting

Time and Date: 9 a.m. (EST) November 18, 2002.

Place: 4th Floor, Conference Room, 1250 H Street NW., Washington, DC

Status: Parts will be open to the public and parts closed to the public.

Matters to Be Considered:

Parts Open to the Public

1. Approval of the minutes of the October 21, 2002, Board member meeting.

2. Thrift Savings Plan activity report by the Executive Director.

3. Review of KPMG LLP audit reports:

U.S. Department of Treasury Operations relating to the Thrift Savings Plan Investments in the Government Securities Investment Fund

System Enhancement and Software Change Controls of the Thrift Savings Plan at the United States Department of Agriculture, National Finance Center

Administrative Review of the Thrift Savings Plan Legacy System Subsystems at the United States Department of Agriculture, National Finance Center

Pre-Implementation Review of the New Thrift Savings Plan Record Keeping System

Preliminary Report on the Thrift Savings Plan's Retention of the National Finance Center as Record Keeper

4. Semiannual review of status of audit recommendations.

5. Labor Department audit briefing.

6. Quarterly investment policy review.

7. Annual ethics briefing.

Parts Closed to the Public

1. Discussion of litigation.

2. Discussion of personnel matter.

Contact Person for More Information: Thomas J. Trabucco, Director, Office of External Affairs, (202) 942-1640.

Dated: November 15, 2002.
David L. Hutner,
Secretary to the Board, Federal Retirement Thrift Investment Board.

[FR Doc. 02-29482 Filed 11-15-02; 12:44 pm]

BILLING CODE 6760-01-M